DEPARTMENT OF LABOR

Employment and Training Administration

[TA-W-61,994]

Child Craft Industries, Inc., Currently Known as Child Craft LLC; New Salisbury, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on September 7, 2007, applicable to workers of Child Craft Industries, Inc., New Salisbury, Indiana. The notice was published in the Federal Register on September 21, 2007 (72 FR 54076).

At the request of the State Agency, the Department reviewed the certification for workers of the subject firm. The workers are engaged in the production of juvenile furniture.

New information shows that during July 2008, Child Craft Industries, Inc. became known as Child Craft LLC and those workers' wages are being reported under the State of Indiana Unemployment Insurance (UI) tax accounts for Child Craft LLC.

Accordingly, the Department is amending this certification to properly reflect this matter.

The intent of the Department's certification is to include all workers of Child Craft Industries, Inc., currently known as Child Craft LLC, New Salisbury, Indiana, who were adversely affected by a shift in production of juvenile furniture to Honduras, China and Indonesia.

The amended notice applicable to TA-W-61,994 is hereby issued as follows:

All workers of Child Craft Industries, Inc., currently known as Child Craft LLC, New Salisbury, Indiana, who became totally or partially separated from employment on or after October 15, 2007, through September 7, 2009, are eligible to apply for adjustment assistance under Section 223 of the Trade Act of 1974, and are also eligible to apply for alternative trade adjustment assistance under Section 246 of the Trade Act of 1974.

Signed at Washington, DC, this 6th day of October 2009.
Elliott S. Kushner
Certifying Officer, Division of Trade Adjustment Assistance.

[FR Doc. E9-25153 Filed 10-19-09; 8:45 am]

BILLING CODE 4510-FN-P